RAILROAD RETIREMENT BOARD

Privacy Act of 1974; Proposed Changes to Systems of Records

AGENCY: Railroad Retirement Board.

ACTION: Notice of proposed routine uses.

SUMMARY: The purpose of this document is to give notice of three proposed new routine uses (in different systems of records) and a revision of another routine use in two systems of records.

DATES: The proposed and amended routine uses shall become effective as proposed without further notice in 40 calendar days from the date of this publication unless comments are received before this date which would result in a contrary determination.

ADDRESSES: Send comments to Beatrice Ezerski, Secretary to the Board, Railroad Retirement Board, 844 North Rush Street, Chicago, Illinois 60611-2092.

FOR FURTHER INFORMATION CONTACT: LeRoy Blommaert, Privacy Act Officer, Railroad Retirement Board, 844 North Rush Street, Chicago, Illinois 60611-2092, (312) 751-4548.

SUPPLEMENTARY INFORMATION: The RRB proposes three new routine uses, one for its System of Records, RRB-5, Master File of Railroad Employees' Creditable Compensation, one for its System of Records, RRB-20, Health Insurance and Supplementary Medical Insurance Enrollment and Premium Payment System (MEDICARE) and one for its System of Records RRB-22, Railroad Retirement Survivor and Pensioner Benefit System.

The first proposed routine use (“r”) in RRB-5 would permit the RRB to furnish to AMTRAK an employee's service history information (such as whether the employee had service before a certain date and whether the employee had at least a given number of years of service) when such information would be needed for AMTRAK to make a determination whether to award a travel pass to either the employee or the employee's widow.

The second proposed routine use (“w”) in RRB-20 would permit the RRB to furnish to a legitimate health care provider whether a qualified railroad retirement beneficiary is enrolled in Medicare part A or part B, and if so, the effective date(s) of such enrollment when such information is needed to verify Medicare enrollment.

The third proposed routine use (“qq”) in RRB-22 would permit the RRB to furnish to AMTRAK an employee's date last worked, annuity filing date, annuity beginning date, and month and year of death when such information would be needed for AMTRAK to make a determination whether to award a travel pass to either the employee or the employee's widow.

The RRB also proposes to amend an existing routine use found in two of its systems of records. The amendment would permit the disclosure of the gender of the subject individual to Members of Congress when they request the name and address in order to communicate with their constituents on matters affecting the railroad retirement or railroad unemployment and sickness programs. The current routine in the two systems of records (“q” in RRB-5 and “ff” in RRB-22) permits disclosure of the subject individual's name and address. The subject's gender is needed to select the correct salutation (Mr. and Ms.) in addressing letters when only the first initial of the first name is given or when the gender cannot be ascertained from the first name (e.g., Lee).

On May 28, 2003, the Railroad Retirement Board filed a new/altered system report for this system with the House Committee on Government Operations, the Senate Committee on Governmental Affairs, and the Office of Management and Budget. This was done to comply with section 3 of the Privacy Act of 1974 and OMB Circular No. A-130, Appendix I.

By Authority of the Board.
Beatrice Ezerski,
Secretary to the Board.

RRB-5

System Name:

Master File of Railroad Employees' Creditable Compensation.

* * * * *

Routine uses of records maintained in the system, including categories of users and the purposes of such uses:

* * * * *

Paragraph “q” is revised to read as follows:

q. The name, address and gender of a railroad worker may be released to a Member of Congress when the Member requests it in order that he or she may communicate with the worker about legislation which affects the railroad retirement or railroad unemployment and sickness insurance program.

* * * * *

Paragraph “r” is added to read as follows:

r. The service history of an employee (such as whether the employee had service before a certain date and whether the employee had at least a given number of years of service) may be disclosed to AMTRAK when such information would be needed by AMTRAK to make a determination whether to award a travel pass to either the employee or the employee's widow.

* * * * *

RRB-20

System Name:

Health Insurance and Supplemental Medical Insurance Enrollment and Premium Payment System (Medicare)

* * * * *

Paragraph “w” is added to read as follows:

w. Whether a qualified railroad retirement beneficiary is enrolled in Medicare part A or part B, and if so, the effective date(s) of such enrollment may be disclosed to a legitimate health care provider, in response to its request, when such information is needed to verify Medicare enrollment.

* * * * *

RRB-22

System Name:

Railroad Retirement, Survivor, and pensioner Benefit System.

* * * * *

Paragraph “ff” is revised to read as follows:

ff. The name, address, and gender of an annuitant may be released to a Member of Congress when the Member requests it in order that he or she may communicate with the annuitant about legislation which affects the railroad retirement system.

* * * * *

Paragraph “qq” is added to read as follows:

qq. An employee's date last worked, annuity filing date, annuity beginning date, and the month and year of death may be furnished to AMTRAK when such information is needed by AMTRAK to make a determination whether to award a travel pass to either the employee's widow.

[FR Doc. 03-14254 Filed 6-5-03; 8:45 am]

BILLING CODE 7905-01-M